DEPARTMENT OF HOUSING AND URBAN DEVELOPMENT

[Docket No. FR-5758-N-10]

60-Day Notice of Proposed Information Collection: Authority To Accept Unsolicited Proposals for Research Partnerships

AGENCY: Office of the Assistant Secretary for Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: September 16, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-5564 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Authority to Accept Unsolicited Proposals for Research Partnerships.

OMB Approval Number: Pending.

Type of Request: New Request.

The notice published in the Federal Register on Friday, March 21, 2014 authorizes HUD's Office of Policy Development and Research (PD&R) to enter into non-competitive cooperative agreements for research partnerships that are aligned with PD&R's research priorities and where HUD can gain value by having substantial involvement in the research activity. To facilitate the proposal review process, all proposals must include the following types of information:

• The name of the entity(s) submitting the proposal;

• Submitting entity's DUNS and EIN numbers;

• The name, phone number and email address of a contact person(s);

• The amount of HUD funding being requested in a detailed budget and narrative;

• The amount of the cost share and the names of the entities contributing to it;

• A clear description of the research project, including the research question(s) being addressed and the methodology being used;

• If HUD data will be required for the proposed research project, a clear description of the data requirements should be provided. Please note that if the data requested involves personally identifiable information (PII), a data license agreement will be required;

• An explanation of the project's alignment with one of the research priorities listed in this notice;

• A detailed project budget with proposed line items including the HUD share and the contributions of any partners and the submitting institution.

Proposals for research partnerships that have already been submitted to HUD as part of a grant competition are ineligible as the subject of a non-competitive cooperative agreement.

Protection of Human Research Subjects

HUD will require successful applicants to comply with requirements of the federal Common Rule (45 CFR part 46) for protecting human research subjects when applicable. Compliance may require grantees to seek review and approval of research plans by an Institutional Review Board (IRB). For research requiring an IRB review, work plans shall identify the IRB that the awardee will use and factor in the necessary cost and time involved in that review. HUD will require awardees to provide appropriate assurances and certifications of compliance before human subjects research begins.

For an applicant to receive an award, they must, prior to award, complete the following submissions:

Description of the need for the information and proposed use: PD&R intends to establish cooperative agreements with qualified for-profit and non-profit research organizations and universities to conduct research, demonstrations, and data analysis. To assess qualified organizations for cooperative research, PD&R must collect information about the qualifications and capacity of organizations that apply under the notice published in the Federal Register.

Estimation of the Total Number of Hours Needed To Prepare the Information Collection Including Number of Respondents, Frequency of Response, and Hours of Response

Information pursuant to grant award will be submitted once a year. The following chart details the respondent burden on an annual and quarterly basis:

Information collection | Number of respondents | Responses per annum | Burden hour per response | Annual burden hours
Quarterly Reports | 25 | 100 | 8 | 800
Final Reports | 10 | 10 | 12 | 120
Recordkeeping | 25 | 25 | 5 | 125
Total | 60 | 135 | 25 | 1045

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: 12 U.S.C. 1701z-1 Research and Demonstrations.

Dated: July 11, 2014.
Katherine M. O'Regan,
Assistant Secretary for Policy, Development and Research.

[FR Doc. 2014-17010 Filed 7-17-14; 8:45 am]

BILLING CODE 4210-67-P